DEPARTMENT OF JUSTICE

Executive Office for Immigration Review

[OMB Number 1125-NEW]

Agency Information Collection Activities; Proposed eCollection; Comments Requested; New

AGENCY: Executive Office for Immigration Review, Department of Justice.

ACTION: Notice.

SUMMARY: The Department of Justice, Executive Office for Immigration Review, is submitting the following information collection request to the Office of Management and Budget (OMB) for review and approval in accordance with the Paperwork Reduction Act of 1995.

DATES: The Department of Justice encourages public comment and will accept input until May 18, 2018.

FOR FURTHER INFORMATION CONTACT: If you have additional comments especially on the estimated public burden or associated response time, suggestions, or need a copy of the proposed information collection instrument with instructions or additional information, please contact Jean King, General Counsel, Office of the General Counsel, 5107 Leesburg Pike, Suite 2600, Falls Church, VA 22041, telephone: (703) 305-0470.

SUPPLEMENTARY INFORMATION: Written comments and suggestions from the public and affected agencies concerning the proposed collection of information are encouraged. Your comments should address one or more of the following four points:

—Evaluate whether the proposed collection of information is necessary for the proper performance of the functions of the Executive Office for Immigration Review, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: New Voluntary Collection.

2. The Title of the Form/Collection: Office of the Chief Administrative Hearing Officer E-Filing Portal.

3. The agency form number, if any, and the applicable component of the Department sponsoring the collection: There is no agency form number for this collection. The applicable component within the Department of Justice is the Office of the Chief Administrative Hearing Officer (OCAHO).

4. Affected public who will be asked or required to respond, as well as a brief abstract: Individuals, Business or other for-profit, and not-for-profit institutions.

5. An estimate of the total number of respondents and the amount of time estimated for an average respondent to respond: 51, 50 minutes per response, 2,550 annual hours.

6. An estimate of the total public burden (in hours) associated with the collection: $5,220.53.

If additional information is required contact: Melody Braswell, Department Clearance Officer, United States Department of Justice, Justice Management Division, Policy and Planning Staff, Two Constitution Square, 145 N Street NE, 3E.405A, Washington, DC 20530.

Dated: March 14, 2018.
Melody Braswell,
Department Clearance Officer for PRA, U.S. Department of Justice.

[FR Doc. 2018-05532 Filed 3-16-18; 8:45 am]

BILLING CODE 4410-30-P